FEDERAL MARITIME COMMISSION

Ocean Transportation Intermediary License Reissuance

Notice is hereby given that the following Ocean Transportation Intermediary license has been reissued by the Federal Maritime Commission pursuant to section 19 of the Shipping Act of 1984 (46 U.S.C. chapter 409) and the regulations of the Commission pertaining to the licensing of Ocean Transportation Intermediaries, 46 CFR part 515.

License No. | Name/address | Date reissued
022143F 2010 | DTI Group Inc., 10913 NW. 30th Street, Suite 107, Miami, FL 33172 | September 16, 2010.

Sandra L. Kusumoto,
Director,
Bureau of Certification and Licensing.

[FR Doc. 2010-27207 Filed 10-26-10; 8:45 am]

BILLING CODE 6730-01-P